DEPARTMENT OF COMMERCE

International Trade Administration

[C-570-971]

Multilayered Wood Flooring From the People's Republic of China: Notice of Correction to the Final Results of Countervailing Duty Administrative Review; 2014

AGENCY: Enforcement and Compliance, International Trade Administration, Department of Commerce.

FOR FURTHER INFORMATION CONTACT: Dennis McClure, Enforcement and Compliance, International Trade Administration, U.S. Department of Commerce, 14th Street and Constitution Avenue NW., Washington, DC 20230; telephone: (202) 482-5973.

SUPPLEMENTARY INFORMATION: On May 15, 2017, the Department of Commerce (the Department) published in the Federal Register the final results of the 2014 countervailing duty administrative review of multilayered wood flooring from the People's Republic of China.¹ In the Final Results, the Department inadvertently excluded Nanjing Minglin Wooden Industry Co., Ltd. (Nanjing Minglin) from the list of companies not selected for individual examination (non-selected companies) which were assigned a review-specific average rate of 1.06 percent.² However, the February 9, 2016, initiation of this review included Nanjing Minglin and, therefore, we should have assigned a review-specific average rate of 1.06 percent to Nanjing Minglin for the final results.³

¹ See Multilayered Wood Flooring from the People's Republic of China: Final Results and Partial Rescission of Countervailing Duty Administrative Review; 2014, 82 FR 22311 (May 15, 2017) (Final Results), and accompanying Issues and Decision Memorandum.

² Id. at 22312-22313.

³ See Initiation of Antidumping and Countervailing Duty Administrative Reviews, 81 FR 6832 (February 9, 2016).

In addition, we note that we inadvertently included Jiangsu Keri Wood Co., Ltd. (Jiangsu Keri) in the list of non-selected companies assigned a review-specific average rate.⁴ However, we should have excluded Jiangsu Keri from the list of non-selected companies because Jiangsu Keri withdrew its request for a review and the Department rescinded its review of Jiangsu Keri in the Preliminary Results.⁵ Accordingly, we now correct the Final Results of this administrative review by assigning the review-specific average rate to Nanjing Minglin and removing Jiangsu Keri from the list of non-selected respondents.

⁴ See Final Results at 22312.

⁵ See Multilayered Wood Flooring from the People's Republic of China: Preliminary Results of Countervailing Duty Administrative Review, Rescission of Review, in Part, and Intent to Rescind the Review in Part; 2014, 82 FR 2319, 2320 (January 9, 2017) (Preliminary Results), and accompanying Issues and Decision Memorandum.

This correction to the Final Results is issued and published in accordance with sections 751(a)(1) and 777(i)(1) of the Tariff Act of 1930, as amended.

Dated: May 24, 2017.
Gary Taverman,
Deputy Assistant Secretary for Antidumping and Countervailing Duty Operations.

[FR Doc. 2017-11202 Filed 5-30-17; 8:45 am]

BILLING CODE 3510-DS-P